Title 3—

The President

Proclamation 8456 of November 20, 2009

National Family Week, 2009

By the President of the United States of America

A Proclamation

American families are the foundation on which our Nation is built. Their expressions of unconditional love and dedication sustain family members and support our Nation’s communities. During National Family Week, we celebrate the inclusive spirit of American families and applaud the commitment of those family members who encourage us to reach new heights.

My Administration is committed to helping American families meet the demands of modern life, increase their self-sufficiency, and achieve their full potential. Ten days after taking office, I established the White House Task Force on Middle Class Working Families, led by Vice President Biden. This Task Force is focused on raising the living standards of working families across the country. In addition, the American Recovery and Reinvestment Act provides a broad spectrum of support to families experiencing difficult times. It boosts child care and Head Start programs, essential not only to a child’s future but also a parent’s peace of mind in the workplace. Health care reform will provide security and stability for American families with insurance and affordable options for uninsured Americans.

As we continue to grow as a Nation, we must also be engaged members of our larger family, composed of our neighbors, our colleagues, and the community where we live. We must appreciate the diversity of other families’ traditions; we must reach out to help families in need; and we must take more responsibility for the care and development of all children, not just our own.

In this season of Thanksgiving, we are grateful that, at our best, America is a collection of strong families, standing united to make our Nation a place of hope and opportunity for future generations.

NOW, THEREFORE, I, BARACK OBAMA, President of the United States of America, by virtue of the authority vested in me by the Constitution and the laws of the United States, do hereby proclaim November 22 through November 28, 2009, as National Family Week. I invite States, local communities, and individuals to join together in observing this week with appropriate ceremonies and activities to honor our Nation’s families.

IN WITNESS WHEREOF, I have hereunto set my hand this twentieth day of November, in the year of our Lord two thousand nine, and of the Independence of the United States of America the two hundred and thirty-fourth.

[FR Doc. E9-28481

Filed 11-24-09; 11:15 am]

Billing code 3195-W0-P